DEPARTMENT OF DEFENSE

Department of the Air Force

[Docket ID: USAF-2026-HQ-0034]

Proposed Collection; Comment Request

AGENCY: Department of the Air Force, Department of Defense (DoD).

ACTION: 60-Day information collection notice.

SUMMARY: In compliance with the Paperwork Reduction Act of 1995, the Department of the Air Force (AF) announces the proposed extension of a public information collection and seeks public comment on the provisions thereof. Comments are invited on: whether the collection of information is necessary for the proper performance of the functions of the agency, including whether the information shall have practical utility; the accuracy of the agency's estimate of the burden of the information collection; ways to enhance the quality, utility, and clarity of the information collected; and ways to minimize the burden of the information collection on respondents, including through the use of automated collection techniques or other forms of information technology.

DATES: Consideration will be given to all comments received by March 16, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Headquarters Air Force Safety Center, 9700 G. Ave., Kirtland AFB, NM 87117, ATTN: Mr. Douglas MacCurdy, or call 312-246-0675.

SUPPLEMENTARY INFORMATION:

Title; Associated Form; and OMB Number: Air Force Safety Automated System; AF Form 978; OMB Control Number 0701-0164.

Needs and Uses: The Air Force Safety Center is seeking to extend its approval for a currently approved information collection used for mishap reporting. This collection is a key component of the AF Safety Program and is necessary for compliance with federal Occupational Safety and Health Administration regulations and Department of Defense policy.

When an incident occurs, information is gathered from witnesses and individuals involved or their supervisors using the AF Form 978, “Supervisor Mishap/Incident Report.” To ensure the quality and utility of the information, the form is reviewed through the chain of command before being officially entered into the Air Force Safety Automated System. Safety professionals analyze this verified data to identify the root causes of accidents and develop recommendations, with the ultimate purpose of preventing future mishaps to save lives and preserve national assets.

Affected Public: Business or other for-profit; individuals or households.

Annual Burden Hours: 200.

Number of Respondents: 200.

Responses per Respondent: 1.

Annual Responses: 200.

Average Burden per Response: 1 hour.

Frequency: On occasion.

Dated: January 12, 2026.
Stephanie J. Bost,
Alternate OSD Federal Register Liaison Officer, Department of Defense.

[FR Doc. 2026-00630 Filed 1-14-26; 8:45 am]

BILLING CODE 6001-FR-P